ENVIRONMENTAL PROTECTION AGENCY

[FRL-9962-91-Region 2]

Prevention of Significant Deterioration of Air Quality (PSD) Final Determinations in New Jersey, Puerto Rico, and the Virgin Islands

AGENCY: Environmental Protection Agency.

ACTION: Notice of final actions.

SUMMARY: The purpose of this document is to announce that between October 2, 2015 and April 11, 2017, the Region 2 Office of the Environmental Protection Agency (EPA), issued one final agency action and the New Jersey Department of Environmental Protection (NJDEP) issued three final agency actions pursuant to the Prevention of Significant Deterioration of Air Quality (PSD) regulations.

DATES: The effective dates for the above determinations are delineated in the chart in the SUPPLEMENTARY INFORMATION section.

FOR FURTHER INFORMATION CONTACT: Mr. Frank Jon, Environmental Engineer of the Permitting Section, Air Programs Branch, Clean Air and Sustainability Division, Environmental Protection Agency, Region 2 Office, 290 Broadway, 25th Floor, New York, NY 10007-1866, at (212) 637-4085.

SUPPLEMENTARY INFORMATION: Pursuant to the PSD regulations codified at 40 CFR 52.21, the Region 2 Office of the USEPA, and the NJDEP have made final PSD determinations relative to the facilities listed below:

Name | Location | Project | Agency | Final action | Date
B.L. England Generating Station | Mamora, New Jersey | The approval is for a second PSD permit extension to commence construction on a 430-MW combined-cycle project consisting of one Siemens STG6-8000H combined-cycle combustion turbine generator (CTG), one heat recovery steam generator (HRSG) equipped with duct burner, one existing steam turbine electric generator (STG) and one auxiliary boiler | NJDEP | Second PSD Permit Extension Granted | November 22, 2015 (effective date of the second PSD permit extended for eighteen additional months from April 12, 2016 until October 12, 2017).
PSEG Fossil LLC Sewaren Generating Station | Sewaren, New Jersey | Construction of one General Electric (GE) 7HA.02 Combined-Cycle Combustion Turbine (CCCT) nominally rated at 585 MW, with a maximum heat input rate of 3,311 MMBtu/hr (HHV) when firing natural gas, and 3,452 MMBtu (HHV) when firing ultra low sulfur diesel (ULSD). The CCCT will be equipped with other ancillary equipment such as a duct burner, auxiliary boiler, an emergency diesel fire pump, an emergency diesel generator, and a 3-cell auxiliary wet mechanical draft cooling tower | NJDEP | New PSD Permit | March 10, 2016.
Middlesex Energy Center | Sayreville, New Jersey | Construction of a new 560 MW combined-cycle facility. The proposed facility will consist of one GE 7HA.02 combustion turbine with a 599 MMBtu/hr duct burner. Ancillary equipment includes an auxiliary boiler, a wet mechanical draft cooling tower, an emergency generator, a fire pump, and tanks for fuel oil and ammonia | NJDEP | New PSD Permit | July 19, 2016.
Energy Answers, LLC | Arecibo, Puerto Rico | Second extension of the deadline for commencing construction of the Arecibo Puerto Rico Renewable Energy Project which consists of two 1,050 tons per day (each) refuse-derived fuel municipal waste combustors, a 77 megawatt steam turbine electrical-generator, and other ancillary equipment | EPA | Second PSD Permit Extension Granted | April 10, 2017 (also date that first PSD permit extension expired; now extended for five additional months until September 10, 2017).

This document lists only the facilities that have received final PSD determinations. Anyone who wishes to review these determinations and related materials should contact the following offices:

EPA Actions

U.S. Environmental Protection Agency, Region 2 Office, Air Programs Branch—25th Floor, 290 Broadway, New York, New York 10007-1866, (212) 637-4085.

NJDEP Actions

New Jersey Department of Environmental Protection, Division of Environmental Quality, Air Quality Permitting Element, Bureau of Preconstruction Permits, 401 East State Street, Trenton, New Jersey 08625, (609) 777-0286.

With respect to the final PSD permits for PSEG Fossil LLC Sewaren Generating Station and the Middlesex Energy Center, pursuant to 40 CFR 124.19(l), a prerequisite to seeking judicial review of the determination under section 307(b)(1) of the Clean Air Act (the Act), 42 U.S.C. 7607(b)(1), is that parties must have previously filed a petition with the EPA Environmental Appeals Board under 40 CFR 124.19(a). If the prerequisite has been met, review may be sought only by the filing of a petition for review in the United States Court of Appeals for the appropriate circuit within 60 days from the date on which the determination is published in the Federal Register. With respect to the PSD permit extensions, pursuant to section 307(b)(1) of the Clean Air Act, judicial review of this extension decision may be sought by filing a petition for review in the United States Court of Appeals for the appropriate circuit within 60 days from the date on which these determinations are published in the Federal Register. Under section 307(b)(2) of the Act, the determinations in this document shall not be subject to later judicial review in civil or criminal proceedings for enforcement.

Dated: May 8, 2017.
Walter Mugdan,
Acting Regional Administrator, Region 2.

[FR Doc. 2017-11704 Filed 6-5-17; 8:45 am]

BILLING CODE 6560-50-P